DEPARTMENT OF HOMELAND SECURITY

Federal Emergency Management Agency

44 CFR Part 67

[Docket ID FEMA-2008-0020; Internal Agency Docket No. FEMA-B-1037]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before June 23, 2009.

ADDRESSES: The corresponding preliminary Flood Insurance Rate Map (FIRM) for the proposed BFEs for each community are available for inspection at the community's map repository. The respective addresses are listed in the table below.

You may submit comments, identified by Docket No. FEMA-B-1037, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground: Effective | * Elevation in feet (NGVD) + Elevation in feet (NAVD) # Depth in feet above ground: Modified | Communities affected
Madison County, Indiana, and Incorporated Areas
Alexandria Creek | Approximately 150 feet upstream of confluence with Pipe Creek | +852 | +853 | City of Alexandria, Unincorporated Areas of Madison County.
| Approximately 2,100 feet upstream of Eleventh Street | None | +861
Big Duck Creek | At South P Street | None | +843 | City of Elwood, Unincorporated Areas of Madison County.
| Approximately 1,700 feet upstream of North 20th Street | None | +856
Boland Ditch | Approximately 700 feet downstream of Meadowbrook Parkway | None | +872 | City of Anderson.
| Approximately 4,190 feet upstream of Main Street | None | +881
Fall Creek | Approximately 630 feet downstream of Reformatory Road | None | +821 | Unincorporated Areas of Madison County.
| Approximately 9,980 feet upstream of State Route 67 | None | +862
Foster Branch | Approximately 2,060 feet downstream of Fall Creek Road | None | +816 | Unincorporated Areas of Madison County, Town of Ingalls, Town of Pendleton.
| Approximately 240 feet upstream of Old State Road 132 | None | +860
Pipe Creek | Approximately 1,425 feet downstream of Conrail Railroad | None | +820 | City of Alexandria, Unincorporated Areas of Madison County.
| Approximately 2,690 feet upstream of Washington Street | None | +857
Prairie Creek | Approximately 2,460 feet upstream of State Route 67 | None | +851 | Unincorporated Areas of Madison County.
| Approximately 4,460 feet upstream of State Route 67 | None | +851
West Fork White River | At State Route 13 North | None | +805 | City of Anderson, River Forest, Town of Chesterfield, Town of Country Club Heights, Town of Woodlawn Height, Unincorporated Areas of Madison County.
| At North 500 East/County Line Road/South 1000 West | None | +872
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Alexandria
Maps are available for inspection at City of Alexandria Office, 125 North Wayne Street, Alexandria, IN 46001.
City of Anderson
Maps are available for inspection at City Building, 120 E. 8th Street, Anderson, IN 46016.
City of Elwood
Maps are available for inspection at City Hall, 1505 South B Street, Elwood, IN 46036.
River Forest
Maps are available for inspection at 53 River Forest, Anderson, IN 46011.
Town of Chesterfield
Maps are available for inspection at Chesterfield Government Center, 17 Veterans Boulevard, Chesterfield, IN 46017.
Town of Country Club Heights
Maps are available for inspection at 1202 North Madison Avenue, Anderson, IN 46011.
Town of Ingalls
Maps are available for inspection at Ingalls Town Center, 247 Meridian Street, Ingalls, IN 46048.
Town of Pendleton
Maps are available for inspection at Pendleton Town Halll, 100 West State Street, Pendleton, IN 46064.
Town of Woodlawn Height
Maps are available for inspection at 1301 Van Buskirk Road, Anderson, IN 46011.
Unincorporated Areas of Madison County
Maps are available for inspection at Madison County Government Center, 16 East 9th Street, Room 200, Anderson, IN 46018.
Livingston County, Kentucky and Incorporated Areas
Kentucky Lake | Approximately 1500 feet downstream of Barkley Canal | None | +375 | Unincorporated Areas of Livingston County, City of Grand Rivers.
| Just upstream of Kentucky Dam | None | +375
Lake Barkley | Just upstream of Barkley Dam | None | +375 | Unincorporated Areas of Livingston County, City of Grand Rivers.
| 2300 feet downstream of Barkley Canal | None | +375
Ohio River | Just upstream of the confluence with Tennessee River | None | +340 | Unincorporated Areas of Livingston County, City of Carrsville, City of Smithland.
| Approximately 3500 feet upstream of the confluence with Deer Creek | None | +356
Tennessee River | Approximately 5100 feet downstream of the confluence with Hodges Creek | None | +341 | Unincorporated Areas of Livingston County.
| Just downstream of Kentucky Dam | None | +343
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Carrsville
Maps are available for inspection at 1810 Fleet Street, Carrsville, KY 42081.
City of Grand Rivers
Maps are available for inspection at 122 West Cumberland Avenue, Grand Rivers, KY 42045.
City of Smithland
Maps are available for inspection at 310 Wilson Avenue, Smithland, KY 42081.
Unincorporated Areas of Livingston County
Maps are available for inspection at 339 Courthouse Drive, Smithland, KY 42081.
Claiborne County, Mississippi, and Incorporated Areas
Bayou Pierre | 30,000 Feet Downstream of Anthony Road | None | +92 | Unincorporated Areas of Claiborne County.
| 8100 Feet Downstream of Anthony Road | None | +96
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Unincorporated Areas of Claiborne County
Maps are available for inspection at 410 Main Street, Port Gibson, MS 39150.

(Catalog of Federal Domestic Assistance No. 97.022, “Flood Insurance.”)

Dated: February 6, 2009.
Michael K. Buckley,
Acting Assistant Administrator, Mitigation Directorate, Department of Homeland Security, Federal Emergency Management Agency.

[FR Doc. E9-6678 Filed 3-24-09; 8:45 am]

BILLING CODE 9110-12-P